OFFICE OF THE UNITED STATES TRADE REPRESENTATIVE

Generalized System of Preferences (GSP): Deadline for Comments on U.S. International Trade Commission Report

AGENCY: Office of the United States Trade Representative.

ACTION: Notice of deadline for comments.

Summary and Dates: In late August, the U.S. International Trade Commission (USITC) is expected to release the public version of its statutorily-mandated report, requested by the Office of the United States Trade Representative (USTR), providing advice on the probable economic effect of granting a waiver of the application of competitive need limitations (CNLs) to two products from Thailand. Comments on the USITC report on these products should be submitted via www.regulations.gov in docket number USTR-2015-0007, per the guidelines described below, within seven calendar days of the public release of the USITC report.

FOR FURTHER INFORMATION CONTACT: The GSP Program at the Office of the United States Trade Representative. The telephone number is (202) 395-2974, the fax number is (202) 395-9674, and the email address is gsp@ustr.eop.gov.

SUPPLEMENTARY INFORMATION: On July 6, 2015, USTR announced in the Federal Register (80 FR 38501) the launch of a review of products under the Generalized System of Preferences (GSP) program that, based on full-year 2014 import data, are subject to certain actions related to competitive need limitations (CNLs). That notice indicated that two products from Thailand—HTS 2008.19.15 and HTS 7408.29.10—will be removed from eligibility for GSP for Thailand on October 1, 2015, unless the President grants a waiver for the product for Thailand in response to a petition filed by an interested party. The government of Thailand subsequently filed petitions seeking CNL waivers for both products. Pursuant to U.S. law and regulations pertaining to GSP, USTR requested the USITC provide advice regarding the probable economic effect of granting the subject waivers.

The USITC is expected to release the public version of its report on these two waiver requests in late August 2015. Comments on the USITC report should be submitted to USTR via www.regulations.gov in Docket Number USTR-2015-0007, per the guidelines described below, within seven calendar days after the date of the release of the report.

Requirements for Submissions

All submissions in response to this notice must conform to the GSP regulations set forth at 15 CFR part 2007, except as modified in Generalized System of Preferences (GSP): Notice of a GSP Product Review, Including Possible Actions Related to Competitive Need Limitations (80 FR 38501) published on July 6, 2015. These regulations are available on the Office of the United States Trade Representative Web site at https://ustr.gov/issue-areas/trade-development/preference-programs/generalized-system-preference-gsp/gsp-program-inf.

All submissions in response to this notice must be in English and must be submitted electronically via http://www.regulations.gov, using docket number USTR-2015-0007. Instructions on how to file documents on http://www.regulations.gov can be found in the referenced July 6, 2015 Federal Register notice (80 FR 38501), available at http://www.regulations.gov/#!documentDetail;D=USTR-2015-0007-0001. Hand-delivered submissions will not be accepted.

Public Viewing of Review Submissions

Submissions in response to this notice, except for information granted “business confidential” status under 15 CFR part 2003.6, will be available for public viewing pursuant to 15 CFR part 2007.6 at http://www.regulations.gov upon completion of processing. Such submissions may be viewed by entering the docket number USTR-2015-0007 in the search field at http://www.regulations.gov.

William D. Jackson,
Deputy Assistant U.S. Trade Representative for the Generalized System of Preferences, Office of the U.S. Trade Representative.

[FR Doc. 2015-21067 Filed 8-24-15; 8:45 am]

BILLING CODE 3290-F5-P